Title 3—

The President

Proclamation 10689 of December 27, 2023

50th Anniversary of the Endangered Species Act, 2023

By the President of the United States of America

A Proclamation

Fifty years ago, the Congress passed one of the world's most critical conservation laws—the Endangered Species Act. Ever since, the Endangered Species Act has prevented 99 percent of all fish, wildlife, and plants under its protection from going extinct. This law has safeguarded the incredible biodiversity across our Nation, supported the recovery of imperiled species, and conserved the habitats they depend on. As we observe this anniversary, my Administration recommits to conserving America's flora and fauna for generations to come.

Before the Endangered Species Act, Federal law lacked a unified framework to protect species facing extinction, including plants and animals that have long populated this country. When these species vanish, it jeopardizes the ecosystems and people that depend on them. Because America's biodiversity is central to our national heritage and identity, courageous activists and scientists refused to let our precious wildlife disappear. With these activists and scientists leading the way, a group of bipartisan members of Congress came together to pass the Endangered Species Act. This law expanded the endangered species list, established new protections for them, and empowered agencies to enforce any violations of those protections. I was proud to vote for and contribute to the passage of the Endangered Species Act back then, and I am proud now of its lasting legacy. Because of these protections, nearly 300 species have avoided extinction—from the American alligator to the bald eagle, our national symbol.

My Administration has remained committed to restoring the full power and promise of the Endangered Species Act and conserving our Nation's lands and waters. We proposed two rules that restore critical parts of the Endangered Species Act that were weakened during the previous administration and recommit to using the best available science to manage species. Additionally, our Inflation Reduction Act invests billions of dollars in conservation efforts—like forest management, ecosystem restoration, watershed protection, and other efforts that will support the recovery of imperiled wildlife and their habitats. That funding also includes $125 million for endangered species, directly benefiting more than 300 species currently listed under the Endangered Species Act.

From day one of my Administration, I have taken historic steps to conserve our natural treasures for the ages. During my first week in office, I issued an Executive Order establishing the country's first-ever National Conservation Goal to conserve at least 30 percent of our lands and waters by 2030. That goal is at the heart of my “America the Beautiful” initiative to support locally led, voluntary conservation and restoration efforts across the country. We are delivering on those efforts—during my first year in office, we protected more lands and waters than any American President since John F. Kennedy. As we have pursued these conservation efforts, we have continued to work with farmers, ranchers, fishermen, landowners, Indigenous peoples, and rural communities, who do the everyday work of sustaining and cultivating our lands.

Additionally, my Administration began the designation process for multiple new national marine sanctuaries, including the Hudson Canyon in the Atlantic Ocean, the Chumash Heritage National Marine Sanctuary off the coast of Southern California, and more than 700,000 square miles around the Pacific Remote Islands. If completed, the Pacific Remote Islands sanctuary would be among the largest marine protected areas on the planet. The Department of the Interior has also begun the process of conserving more than 13 million acres of lands of significant natural and cultural value in America's Western Arctic.

Finally, we cannot adequately protect our Nation's biodiversity if we do not combat the existential threat of climate change. That is why my Inflation Reduction Act made the largest investment in climate and conservation ever. Along with funding from the Bipartisan Infrastructure Law, these investments have helped protect our iconic outdoor spaces, implement climate-smart agriculture practices, preserve our historic sites, and make our Nation more resilient to the devastating impacts of climate change. I also signed an Executive Order to protect America's forests, support nature-based solutions to climate change, and initiate the first National Nature Assessment to evaluate the state of our lands, waters, and wildlife.

As we celebrate the 50th anniversary of the Endangered Species Act, we recognize the incredible progress we have made over the past five decades to protect endangered species as well as all that is possible when we come together to conserve our planet. Together, we can ensure that all our Nation's treasures—its lands, water, and all the incredible wildlife it holds—will be enjoyed for generations to come.

NOW, THEREFORE, I, JOSEPH R. BIDEN JR., President of the United States of America, by virtue of the authority vested in me by the Constitution and the laws of the United States, do hereby proclaim December 28, 2023, as the 50th Anniversary of the Endangered Species Act. I call upon Americans to honor all the progress we have made toward protecting endangered species and to work together to conserve our Nation's incredible biodiversity.

IN WITNESS WHEREOF, I have hereunto set my hand this twenty-seventh day of December, in the year of our Lord two thousand twenty-three, and of the Independence of the United States of America the two hundred and forty-eighth.

[FR Doc. 2023-28935

Filed 12-29-23; 8:45 am]

Billing code 3395-F4-P